DEPARTMENT OF TRANSPORTATION

Federal Aviation Administration

14 CFR Parts 21, 36, and 91

[Docket No. FAA-2000-7587 Amdt No. 21-81, 36-24 & 91-275]

RIN 2120-AH03

Noise Certification Standards for Subsonic Jet Airplanes and Subsonic Transport Category Large Airplanes

Correction

In rule document 02-15385 beginning on page 45194 in the issue of Monday, July 8, 2002, make the following corrections:

1. On page 45194, in the first column, under the heading “ACTION:”, in the first line, “requests” should read “request”.

2. On page 45194, in the second column, under the heading “Availability of Rulemaking Documents”, in the 20th line, “Office of Bulemaking's” should read “Office of Rulemaking's”.

3. On page 45194, in the second column, under the same heading, in the 31st line, “ of ” should read “or”.

4. On page 45194, in the third column, under the heading “Current Regulations” in the 3rd line, “directed to prescribed” should read “directed to prescribe”.

5. On the same page, in the same column, under the same heading, in the 12th line, “Subpart” should read “Subparts”.

6. On the same page, in the same column, under the same heading, in the 14th line, “standards and” should read “standards that”.

7. On the same page, in the same column, under the heading “Government and Industry Cooperation”, in the 4th line, “Administrators” should read “Administrator”.

8. On the same page, in the same column, in the third full paragraph, in the eighth line from the bottom, “part 36” should read “of part 36”.

9. On page 45196, in the third column, in the second full paragraph, in the first line, “The final rule” should read “This final rule”.

10. On page 45198, in the first column, in the third full paragraph, correct “***” to read “...” in the four places it appears.

11. On page 45198, in the first column, in the seventh full paragraph, in the fourth line, “A36.4.9.11” should read “A36.3.9.11”.

12. On page 45198, in the third column, in the 10th line, “align part and JAR 36” should read “align part 36 and JAR 36”.

13. On the same page, in the same column, under the heading “Section 36.1”, in the second line, “Amendments” should read “Amendment”.

14. On page 45199, in the first column, in the first full paragraph, in the last line, “past” should read “part”.

15. On the same page, in the same column, under the theading Section 36.2, in the first paragraph, in the first line, “context” should read “content”.

16. On the same page, in the same column, under the same heading, in the same paragraph, in the 12th line, “date of certification)” should read “date of certification application)”.

17. On the same page, in the same column, under the heading, “Section 36.6”, in the second line, “the reference form” should read “the reference for”.

18. On the same page, in the third column, under the heading “A 36.2 Noise Certification Test and Measurement Conditions”, in the second full paragraph, in the 12th line, “not” should read “now ”.

19. On the same page, in the same column, under the same heading, in the second full paragraph, in the 18th line “circuit” should read “circular”.

20. On the same page, in the same column, under the same heading, in the fourth full paragraph, in the second line, “A26.2.2.2(b)” should read “A36.2.2.2(b)”.

21. On page 45200, in the first column, in the second full paragraph, in the first line, “requirements” should read “requirement”.

22. On the same page, in the third column, in the eighth full paragraph, in the third line, “lease” should read “least”.

23. On page 45201, in the first column, in the fifth full paragraph, in the second and fifth lines, “lease” should read “least”.

24. On the same page, in the same column, in the seventh full paragraph, in the fourth line, “allow” should read “allows”.

25. On the same page, in the second column, in the third full paragraph, in the ninth line, “can be calculated for the equations contain” should read “can be calculated from the equations contained”.

26. On the same page, in the third column, under the heading “Section A36.5 Data Reporting” in the second full paragraph, in the seventh line, “measure” should read “measured”.

27. On page 45202, in the first column, under the heading “Section A 36.7 Sound Attenuation in Air”, in the second line, “must use be” should read “must be”.

28. On the same page, in the second column, in the third full paragraph, in the second line, “described” should read “describe”.

29. On the same page, in the second column, in the fifth full paragraph, in the seventh line, “APNL” should read “EPNL”.

30. On page 45203, in the first column,in the first full paragraph, in the seventh and eighth lines, “will harmonize” should read “will further harmonize”.

31. On the same page, in the same column, under the heading Section B36.4 Test Noise Measurement in the second full paragraph, in the second line, “sidelines” should read “sideline” and in the 13th line “measurement” should read “measurements”.

32. On the same page, in the second column, under the heading Section B36.5 Maximum Noise Levels, in the first full paragraph, in the seventh line, “FR 26360” should read “FR 16360” and in the eighth line, “references” should read “reference“.

33. On the same page, in the same column, under the heading Section B36.6, in the third full paragraph, in the third line, “367(d)(3)(i)(B)” should read “36.7(d)(3)(i)(B)”.

34. On the same page, in the same column, under the heading Section B36.7 Noise Certification Reference Procedures, in the second line, “limitation” should read “limitations”.

35. On the same page, in the third column,of the third full paragraph, in the 10th line, “speed” should read “speeds”.

36. On the same page, in the same column, of the fourth full paragraph, in the first line, “FA” should read “FAA”.

37. On page 45204, in the second column,of the first full paragraph, in the 12th line, “determined” should read “determining”.

38. On page 45204, in the third column, the heading

“Appendix H—Noise Requirements for Helicopters Under Subpart H Section H36.101 Noise Certification Test and Measurement Conditions.” should read

“Appendix H—Noise Requirements for Helicopters Under Subpart H

Section H36.101 Noise Certification Test and Measurement Conditions.”

39. On page 45204, in the third column, in the Table, under the column “New section”, in the fifth entry, “A36.7(b)(3)” should read “B36.7(b)(3)”.

40. On page 45205, in the third column, in the table “CROSS REFERENCE TABLE”, and under the second column “Old section”, in the third entry from the bottom, “A36.1(b)(5), A36.1(d)” should read “A36.1(b)(5), A36.9(b)(1)”.

41. On page 45206, in the second and third columns column, in the tables “REDESIGNATION TABLE FOR APPENDICES A AND B—Continued”, the headings of the first column “Old section” should read “New section” and the headings of the second column “New section” should read “Old section”.

42. On page 45206, in the second column, in the table “REDESIGNATION TABLE FOR APPENDICES A AND B—Continued”, under the corrected second column “Old section”, in the 22nd entry, “A36.11(c)” should read “B36.11(c)”.

43. On the same page, in the same column, in the same table, and under the corrected second column “Old section”, at the sixth entry, “C36.5(c)(2), C36.9(c)” should read “A36.5(c)(2), C36.9(c)”.

44. On the same page, in the third column, in the same table, and under the corrected second column “Old section”, in the 10th entry, “C36.5(c)(2)” should read “A36.5(c)(2)”.

45. On page 45207, in the first column, in the ninth line, “Section A36.2.2.2(e)” should read “Section 2.2.2(e)”.

46. On the same page, in the first column,in the second full paragraph, in the first line, “requires” should read “require”.

47. On the same page, in the second column, in the second full paragraph, in the fifth line, “AFM/REM” should read “AFM/RFM”.

48. On page 45209, in the first column, under the heading “Cost Savings”, in the second full paragraph, in the sixth line, “if” should read “is”.

49. On the same page, in the second column, in the 15th line, a period should appear after the word “period”.

50. On the same page, in the same column, in the same paragraph, in the same line, “nit” should read “not”.

51. On the same page, in the same column, in the first full paragraph, in the 11th line, “however.” should read “however, ”.

52. On the same page, in the same column, in the second full paragraph, in the 14th line, “sideline array.” should read “sideline array.)”.

53. On the same page, in the third column, in the first full paragraph, in the ninth and 10th lines, “no more than 10 tests and that the derived estimated cost savings” should read “no more than 10 tests will be conducted over the next 10 years and that the derived estimated cost savings”.

54. On page 45210, in the second column, in the third full paragraph, in the ninth line, “$95,250” should read “$95,240”.

55. On the same page, in the third column, in the fourth line, “years ” should read “year”.

56. On the same page, in the same column, in the 10th line, “$770” should read “$780”.

57. On the same page, in the same column, in the 13th line, “annualize” should read “annualized”.

58. On the same page, in the same column, in the second full paragraph, in the third and fourth lines, “economic impact to the Regulatory Flexibility Act,” should read “economic impact on a substantial number of small entities. Accordingly, pursuant to the Regulatory Flexibility Act,”.

59. On page 45211, in the first column, in the fourth full paragraph, in the third line, “Title Ii” should read “Title II”.

PART 36—CORRECTED

60. On the same page, in the second column, under the heading “Authority:”, in the fourth line, “E.O. 11513” should read “E.O. 11514”.

§ 36.1 [Corrected]

61. On the same page, in the same column, in § 36.1, under amendatory instruction 5b., in the first line, “(b)” should read “(d)” and in the second line, “turboject” should read “turbojet”.

62. On the same page, in the same column, in § 36.1, under amendatory instruction 5e., in the third line, “ins” should read “its”.

63. On the same page, in the third column, in the same section, under amendatory instruction 5i., in the third line, “remove” should read “ and remove”.

64. On the same page, in the same column, in the same section, under amendatory instruction 5j., in the fourth line, remove the repeated text “and add ‘appendix B’ in its place”.

§ 36.2 [Corrected]

65. On the same page, in the same column, in § 36.2, in paragraph (b), in the fourth line, “§ 21.95(b)” should read “§ 21.93(b)”.

§ 36.6 [Corrected]

66. On page 45212, in the first column, in § 36.6, above the section heading add the words

“The additions and revisions read as follows:”.

67. On the same page, in the same column, in § 36.6, under paragraph (c)(1)(iv), “(iv)” should read “(vi)”.

Appendix A to Part 36—[Corrected]

68. On page 45214, in the first column, at paragraph A36.3.1.5, in the sixth line, “means” should read “mean”.

69. On the same page, in the second column, at paragraph A36.3.1.16, in the fourth line, “angel” should read “angle”.

70. On the same page, in the third column, at paragraph A36.3.4.1, in the third line, “insertion loss” should read “the insertion loss”.

71. On the same page, in the same column, at paragraph A36.3.5.1, in the fourth line, “basic” should read “basis”.

72. On page 45215, in the first column, at paragraph A36.3.6.1, in the seventh line, “away” should read “a way”.

73. On page 45216, in the first column, at paragraph A36.3.6.6, in the first line, before “calibration”, insert “reference level range, the level corresonding to the”.

74. On the same page, in the same column, at paragraph A36.3.6.7, “Analysis systems.” should read “A36.3.7 Analysis systems.”.

75. On the same page, in the second column, at paragraph A36.3.7.4, in the eighth line, “is” should read “1s” and in the 12th line, “failing” should read “falling” and in the 18th line, “failing” should read “falling”.

76. On the same page, in the same column, at paragraph A36.3.7.5, in the 15th line, “press” should read “pressure”.

77. On the same page, in the third column, in the sixth line, “A36.3.76” should read “A36.3.7.6”.

78. On the same page, in the same column, at paragraph A36.3.9.3, in the third line, “razing” should read “grazing”.

79. On page 45217, in the first column, at paragraph A36.3.9.8”, in the fourth line, “know” should read “known” and in the seventh line, “differences” should read “difference”.

80. On the same page, in the second column, at paragraph A36.3.9.10”, in the 21st line, “note” should read “not ”.

81. On page 45218, in the first column, at paragraph A36.4.3.1(b) Step 2, “|Δ(i,k)|=” should read “|Δs(i,k)|=”.

82. On page 45219, in the first column, at paragraph A36.4.3.1(j) Step 10, in the seventh line, “value” should read “values”.

83. On page 45223, in the table, under the column Meaning, in the 11th line from the bottom, “The perceived noisiness at the k-th instant of time that occurs in the i-th one-third octave band.” should read “The perceived noisiness at any instant of time that occurs in a specified frequency.”.

84. On the same page, in the same table, under the column titled Symbol, and under the column titled Unit, and under the column titled Meaning, after “n”, as the fifth entry from the the bottom, add the following:

Section A36.6 Nomenclature: Symbols and Units
Symbol | Unit | Meaning
n(i,k) | noy | The percieved noisiness at the k-th instant of time that occurs in the i-th one-third octave band.

85. On page 45224, in the table, under the column titled Meaning, in the 10th line, after “PNLT(k)”, add the phrase “is obtained by adjusting the value of PNL(k)” and on the same page, in the table, under the column titled ÿ7EMeaning, in the 10th line, “PNLT(k) for the spectral” should read “PNLT(k) is obtained by adjusting the value of PNL(k) for the spectral”.

86. On the same page, in the same Table, and under the same column, in the 20th line from the bottom, “ Reference atmospheric absorption.” should read “Test atmospheric absorption.”.

87. On the same page, in the same Table, and under the same column, in the 16th line from the bottom, after “sound” insert the words “that occurs in the i-th one-third octave band at a reference air temperature and relative humidity.”.

88. On page 45226, in the third column, in the seventh line, “qualify” should read “quantify”.

89. On page 45228, in the third column, at paragraph A36.9.3.2(a), in the first line, “portion” should read “portions”.

90. On page 45229, in the first column, in the 9th line, “ÿ7Eÿ7Ethe same angle with” should read “ÿ7Eÿ7Ethe same angle θ with”.

91. On the same page, in the second column in the eighth line, “AQ36-7(b)” should read “A36-7(b)”.

92. On the same page, in the third column, in the eighth line, “assumption” should read “assumptions”.

93. On page 45230, in the first column, at paragraph A36.9.3.2.1(a), in the fourth line, “+0.0001 α(i)0” should read “+0.001 α(i)0”.

94. On the same page, in the same column, at paragraph A36.9.3.2.1(a)(1), in the fifth line, “atmosphere” should read “atmospheric”.

95. On the same page, in the second column, at paragraph A36.9.3.2.1.1(b), in the third line, “PNTr” should read “PNLTr”.

96. On page 45231, in the third column, at paragraph A36.9.3.5.1(b), in the fifth line, “sides,” should read “sides;”.

97. On page 45232, in the first column, at paragraph A36.9.4.2(a)(2), in the sixth line, “at a timeÿ7E” should read “at timeÿ7E”.

98. On the same page, in the third column, at paragraph A36.9.4.2(b)(2), in the 12th line, “reference noise propagation paths Qr0” should read “reference noise propagation paths. Qr0”.

99. On page 45233, in the first column, at paragraph A36.9.4.2(b)(2), in the second line, “ÿ7Ecomputed as” should read “ÿ7E(computed as”.

100. On page 45234, in the first column, at paragraph A36.9.4.2.1, in the third line, before the words “separate amounts” add “”than t1 by two”.

101. On the same page, in the third column, at paragraph A36.9.4.2.2, in the second line, “section A36.4.2” should read “section A36.4.2.”.

102. On the same page, in the same column, at paragraph A36.9.4.3.1, in the fourth line, “(PNLTr1 at time tr1. The” should read “(PNLTr1 at time tr1). The”.

103. On the same page, in the table heading “A37.9.5 FLIGHT PATH IDENTIFICATION”, “A37.9.5” should read “A36.9.5”.

104. On the same page, in table A37.9.5, under the column “Description”, in the fourth entry, “thurst” should read “thrust”.

Appendix B to Part 36—[Corrected]

105. On page 45235, in the first column, in “section B36.3(a)(1)”, in the second line, “an” should read “and”, and ÿ7Ein the 18th line, “State” should read “Stage”.

106. On the same page, in the third column, in section B36.5(c)(1)(iii), in the second line, “engines;” should read “engines:”, and in the fifth line, after the ;, remove the replicated text “reduce the limit by 4 EPNdB;”.

107. On page 45236, in the first column, section B36.7(b)(1), in the second line, “state” should read “start”.

108. On the same page, in the same column, section B36.7(b)(4), in the ninth line, “Concord” should read “Concorde”.

109. On the same page, in the second column, section B36.7(b)(5), in the 11th line, “engines” should read “engine”.

110. On the same page, in the same column, section B36.7(c)(2), in the fifth line, “points” should read “point”, and in the seventh line, “airplanes” should read “airplane”.

111. On the same page, in the third column, section B36.7(c)(5), in the fourth line, “devices.” should read “devices,”.

[FR Doc. C2-15835 Filed 10-9-02; 8:45 am]

BILLING CODE 1505-01-D